DEPARTMENT OF ENERGY

Blue Ribbon Commission on America's Nuclear Future, Reactor and Fuel Cycle Technologies Subcommittee

AGENCY: Department of Energy, Office of Nuclear Energy.

ACTION: Notice of Open Meeting.

SUMMARY: This notice announces an open meeting of the Reactor and Fuel Cycle Technologies (RFCT) Subcommittee. The RFCT Subcommittee is a subcommittee of the Blue Ribbon Commission on America's Nuclear Future (the Commission). The establishment of subcommittees is authorized in the Commission's charter. The Commission was organized pursuant to the Federal Advisory Committee Act (Public Law No. 94-463, 86 Stat. 770) (the Act). This notice is provided in accordance with the Act.

DATES: Monday, July 13, 2010, 8:30 a.m.-5 p.m.

ADDRESSES: Shilo Inn Suites Hotel, 780 Lindsay Boulevard, Idaho Falls, ID 83402, Phone (208) 523-0088.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION:

Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Co-chairs of the Commission requested the formation of the RFCT Subcommittee to answer the question: “[d]o technical alternatives to today's once-through fuel cycle offer sufficient promise to warrant serious consideration and R&D investment, and do these technologies hold significant potential to influence the way in which used fuel is stored and disposed?”

Purpose of the Meeting: The meeting will primarily focus on the United States research and development (R&D) capabilities and activities in reactor and fuel cycle technologies.

Tentative Agenda: The meeting is expected to start at 8:30 a.m. on July 12 with the presentations regarding the Department of Energy's Office of Nuclear Energy's R&D activities and end at 5 p.m.

Public Participation: Subcommittee meetings are not subject to the requirements of the Act; however, the Commission has elected to open the presentation sessions of the meeting to the public. The meeting is open to the public. Individuals and representatives of organizations who would like to offer comments and suggestions may do so at the end of the meeting on Monday, July 12, 2010. Approximately 45 minutes will be reserved for public comments. Time allotted per speaker will depend on the number who wish to speak but will not exceed 5 minutes. The Designated Federal Officer is empowered to conduct the meeting in a fashion that will facilitate the orderly conduct of business. Those wishing to speak should register to do so beginning at 8 a.m. on July 12, 2010.

Those not able to attend the meeting or have insufficient time to address the subcommittee are invited to send a written statement to Timothy A. Frazier, U.S. Department of Energy, 1000 Independence Avenue, SW., Washington DC 20585, e-mail to CommissionDFO@nuclear.energy.gov, or post comments on the Commission website at http://www.brc.gov.

Additionally, the meeting will be available via live audio webcast. The link will be available at http://www.brc.gov.

Minutes: The minutes of the meeting will be available at http://www.brc.gov or by contacting Mr. Frazier. He may be reached at the postal address or e-mail address above.

Issued in Washington, DC, on June 15, 2010.
Rachel Samuel,
Deputy Committee Management Officer.

[FR Doc. 2010-14888 Filed 6-18-10; 8:45 am]

BILLING CODE 6450-01-P